DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: May 17, 2018, 10:00 a.m.

PLACE: Room 2C, 888 First Street NE, Washington, DC 20426.

STATUS: Open.

MATTERS TO BE CONSIDERED: Agenda: * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ sing the eLibrary link, or may be examined in the Commission's Public Reference Room.

1043rd—Meeting, Regular Meeting, May 17, 2018, 10:00 a.m.

Item No. | Docket No. | Company
ADMINISTRATIVE
A-1 | AD18-1-000 | Agency Administrative Matters.
A-2 | AD18-2-000 | Customer Matters, Reliability, Security and Market Operations.
A-3 | AD06-3-000 | 2018 Summer Market and Reliability Assessment.
ELECTRIC
E-1 | RM18-8-000 | Geomagnetic Disturbance Reliability Standard.
E-2 | RM16-15-001 | Regulations Implementing FAST Act Section 61003—Critical Electric Infrastructure Security and Amending Critical Energy Infrastructure Information.
E-3 | ER16-204-001 | Southwest Power Pool, Inc.
E-4 | ER17-1575-002 | Southwest Power Pool, Inc.
E-5 | EL16-110-002, EL17-69-001 (not consolidated) | Southwest Power Pool, Inc., Buffalo Dunes Wind Project, LLC, Enel Green Power North America, Inc., Alabama Power Company, and Southern Company Services, Inc. v. Southwest Power Pool, Inc.
E-6 | EL17-59-001 | Joint California Complainants v. Pacific Gas and Electric Company.
E-7 | EL17-95-000 | California Public Utilities Commission, Transmission Agency of Northern California, Sacramento Municipal Utility District, M-S-R Public Power Agency, City of Santa Clara, California, State Water Contractors, Modesto Irrigation District, and Northern California Power Agency v. Pacific Gas and Electric Company.
| ER17-2154-000 (consolidated) | Pacific Gas and Electric Company.
E-8 | EL18-58-000 | Oklahoma Municipal Power Authority v. Oklahoma Gas and Electric Company.
E-9 | EL17-70-000, QF17-935-001, QF17-936-001 | Zeeland Farm Services, Inc.
E-10 | EL15-3-002 | City and County of San Francisco v. Pacific Gas and Electric Company.
| ER15-702-002, ER15-703-002, ER15-704-005, ER15-705-002, ER15-735-002 (consolidated) | Pacific Gas and Electric Company.
E-11 | EL01-88-015 | Louisiana Public Service Commission v. Entergy Services, Inc.
E-12 | EL01-88-017 | Louisiana Public Service Commission v. Entergy Services, Inc.
MISCELLANEOUS
M-1 | OMITTED.
M-2 | RM18-7-000 | Withdrawal of Pleadings.
GAS
G-1 | RP16-1299-003, RP17-977-000 (consolidated) | Kinetica Energy Express, LLC.
G-2 | OR18-9-000 | White Cliffs Pipeline, L.L.C.
G-3 | OMITTED.
G-4 | OR15-6-000 | Seaway Crude Pipeline Company LLC.
G-5 | RP17-811-001 | Peregrine Oil & Gas II, LLC v. Texas Eastern Transmission, LP.
HYDRO
H-1 | RM18-14-000 | Elimination of Form 80 and Revision of Regulations on Recreational Opportunities and Development at Licensed Hydropower Projects.
CERTIFICATES
C-1 | CP17-476-000 | Gulf South Pipeline Company, LP.
C-2 | CP18-48-000 | Tennessee Gas Pipeline Company, L.L.C., Kinder Morgan Border Pipeline LLC, Kinder Morgan Tejas Pipeline LLC.

Issued: May 10, 2018.
Nathaniel J. Davis, Sr.,
Deputy Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-10396 Filed 5-11-18; 11:15 am]

BILLING CODE 6717-01-P